DEPARTMENT OF THE INTERIOR

National Park Service

[NPS-WASO-NAGPRA-NPS0025285; PPWOCRADN0-PCU00RP14.R50000]

Notice of Inventory Completion: Mississippi Department of Archives and History, Jackson, MS

AGENCY: National Park Service, Interior.

ACTION: Notice.

SUMMARY: The Mississippi Department of Archives and History has completed an inventory of human remains and associated funerary objects, in consultation with the appropriate Indian Tribes or Native Hawaiian organizations, and has determined that there is no cultural affiliation between the human remains and associated funerary objects and present-day Indian Tribes. Lineal descendants or representatives of any Indian Tribe or Native Hawaiian organization not identified in this notice that wish to request transfer of control of these human remains and associated funerary objects should submit a written request to the Mississippi Department of Archives and History. If no additional requestors come forward, transfer of control of the human remains and associated funerary objects to the Indian Tribes or Native Hawaiian organizations stated in this notice may proceed.

DATES: Lineal descendants or representatives of any Indian Tribe or Native Hawaiian organization not identified in this notice that wish to request transfer of control of these human remains and associated funerary objects should submit a written request with information in support of the request to the Mississippi Department of Archives and History at the address in this notice by May 14, 2018.

ADDRESSES: Patty Miller-Beech, Mississippi Department of Archives and History, P.O. Box 571, Jackson, MS 39205-0571, telephone (601) 576-6944, email pmbeech@mdah.ms.gov.

SUPPLEMENTARY INFORMATION: Notice is here given in accordance with the Native American Graves Protection and Repatriation Act (NAGPRA), 25 U.S.C. 3003, of the completion of an inventory of human remains and associated funerary objects under the control of the Mississippi Department of Archives and History, Jackson, MS. The human remains and associated funerary objects were removed from Tunica County, DeSoto County, Clay County, and Panola County, MS.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Mississippi Department of Archives and History's professional staff in consultation with representatives of The Chickasaw Nation. The following Indian Tribes were invited to consult but did not wish to participate: the Alabama-Coushatta Tribe of Texas (previously listed as the Alabama-Coushatta Tribes of Texas), Jena Band of Choctaw Indians, Mississippi Band of Choctaw Indians, The Choctaw Nation of Oklahoma, The Muscogee (Creek) Nation, The Quapaw Tribe of Indians, and the Tunica-Biloxi Indian Tribe.

History and Description of the Remains

Between July 1988 and August 1991, human remains representing, at minimum, 147 individuals were removed from the Austin site (22Tu549) in Tunica County, MS. The burials were brought to the attention of the Mississippi Department of Archives and History (MDAH) after the landowner discovered them during land leveling activities. Subsequently, a salvage excavation of the site was performed to prevent further damage to the burials. The results of the excavation uncovered more burials, features from houses, wall trenches, refuse pits, numerous pottery bowls, projectile points, ornamental artifacts, and faunal remains. The burials, which included both partial and complete skeletal remains, demonstrate an array of burial practices from bundle burials to comingled burials of ages ranging from infancy to adult. Male and females were present. Some burials had funerary objects, while many did not. No known individuals were identified. The 37 associated funerary objects consist of 2 celts, 4 shell beads, 1 clay bead, 1 whole turtle shell, 5 turtle shell fragments, 1 shell necklace, 2 wolf teeth, 1 deer jaw, 8 projectile points, 1 broken Mississippi Plain var. Neely's Ferry vessel, 1 large broken Larto Red Filmed bowl, 2 square-bottomed Alligator-incised jars, 1 Baytown Plain jar, 1 Evansville Punctate jar, 2 Coles Creek incised bowls, 1 partial Baytown Plain bowl, 1 Mulberry Creek Cordmarked vessel and 2 Baytown Plain vessels. Based on the types of pottery found in the immediate area, the age of the Austin site appears to range from the Coles Creek period to the Mississippian period (A.D. 700-1400). Radiocarbon dating of this site has not been performed. In addition, based on the condition of the human remains, as well as the associated funerary objects, the individuals have been determined to be Native American.

In April of 1968, human remains representing, at minimum, 15 individuals were removed from the Bonds Village site (22Tu530) in Tunica County, MS. The human remains were brought to the attention of the North Delta Chapter of the Mississippi Archaeological Association after heavy cultivation had caused considerable disturbance to the site. With the approval of the landowner and MDAH, a salvage excavation of the site was performed to prevent further damage to the burials. The individuals ranged in ages from infant to adult, with the majority interred as extended burials. There was one bundle burial; it contained the remains of a juvenile male. Both males and females were interred on this site. Funerary artifacts had been placed with the bundle burial and an extended burial containing two adult males. No known individuals were identified. The 13 associated funerary objects are 1 Bell Plain bowl, 1 bone awl, 1 shell hoe, and 10 projectile points. Based on pottery found on the site, the age of Bonds Village site (22Tu530) appears to date to the Mississippian period (A.D. 1050-1450). Physical anthropological analysis of the remains has determined them to be Native American.

In 1969, human remains representing, at minimum, one individual were removed from the Boyd site (22Tu531) in Tunica County, MS. The human remains were removed during a salvage excavation conducted by MDAH personnel. The human remains appear to belong to an adult female, based on osteological indicators. The burial had been heavily impacted by land-leveling activities. Based upon ceramic pottery sherds found at the site, the burial appears to date anywhere from the Tchula to Marksville period (350 B.C.-A.D. 450). No known individual was identified. No associated funerary objects are present.

In June of 1990, human remains representing, at minimum, one individual were removed from a burial (Burial #2) at the Brogan Village site (22CL501B) in Clay County, MS. The human remains were removed during a salvage excavation conducted by MDAH archeologists. A second burial (Burial #1) was also recovered during this excavation. The human remains from Burial #1 were sent to Ohio in 1990 for analysis, presumably as soon as they were disinterred. None of the field reports by MDAH archeological staff mention Burial #1 aside from the initial sketch and a note regarding the analysis placed with the Burial #2 documentation. The human remains from Burial #1 are presumed missing at this time, and no further information is available. No known individual was identified. No associated funerary objects are present. Based upon pottery sherds found nearby, the age of the Brogan Village site appears to date to the Late Woodland (Miller III phase) (A.D. 550-950).

In 1971, human remains representing, at minimum, five individuals were removed from the Dogwood Ridge site (22Ds511) in DeSoto County, MS. The human remains were removed during a salvage excavation performed by archeologists with MDAH. This bundle burial was initially recorded as containing one individual, but subsequent analysis has shown that the burial bundle contains five individuals with the burial bundle. Three adult males, one juvenile, and one infant were included in the bundle burial. No known individuals were identified. No associated funerary objects are present. There were no artifacts associated with the burial, but a pottery sherd found within the site may date the burial from the Baytown phase to Late Mississippian phase (A.D. 400-1700). No radiocarbon dating has been performed, but osteological analysis has determined that the burials are Native American.

In the late 1970s, human remains representing, at minimum, two individuals were removed from the Dugger Bluff site (22Pa587) in Panola County, MS. The human remains were recovered and curated at MDAH. No other identifying information, such as the age or sex of the individuals, has been retrieved at this time. Based on ceramic sherds found within the site boundaries, this site appears to date to the Middle Woodland period (A.D. 400-1100). No known individuals were identified. No associated funerary objects are present.

In the 1980s, human remains representing, at minimum, four individuals were removed from the Dundee site (22Tu501) in Tunica County, MS. The human remains were recovered during a salvage excavation and curated at the MDAH. The human remains, though very fragmentary, were determined to belong to two adults and two juveniles, based on wear on the dentition. Previous reports on the Dundee site by Calvin Brown in 1926 stated that the site was comprised of several mounds dating back to at least the Mississippian period and possibly the Late Woodland Phase (A.D. 400-1700). No known individuals were identified. No associated funerary objects are present.

In the late 1960s, human remains representing, at minimum, five individuals were removed from the McCarter Mound site (22Pa502) in Panola County, MS. The human remains were recorded and excavated during a salvage excavation by the North Delta Chapter of the Mississippi Archaeological Association and subsequently curated at MDAH. The human remains, though fragmentary and in poor condition, have been osteologically identified as belonging to four adults and one juvenile. Determination of sex was not possible. Ceramics found at the McCarter Mound (22Pa502) site have been dated to the Early Marksville period (200 B.C.) No known individuals were identified. No associated funerary objects are present.

In 1993, human remains representing, at minimum, 12 individuals were removed from the Hollywood site (22Tu500) in Tunica County, MS. The human remains were recovered during a salvage excavation and curated at MDAH. Osteological examination determined that the human remains belong to one infant, three children, one adult female, two adult males, and five adults of indeterminate sex. Most of the human remains were poorly preserved. No known individuals were identified. No associated funerary objects are present. Radiocarbon dating of materials from the site indicates that the human remains date to the Mississippian period, (A.D. 1400-1600).

In 1974, human remains representing, at minimum, 14 individuals were recovered from the Flowers #3 site (22Tu518) in Tunica County, MS. The human remains were recovered during a salvage excavation and curated at MDAH. The human remains were comprised of bundle burials with fragmentary interments of each individual. The human remains belong to three children, one infant (6-9 months), one adolescent, two female young adults, one young adult male, three young adults (sex indeterminate), one female adult (45-50 years), one male adult (45-50 years), and one adult of indeterminate sex. No known individuals were identified. Ceramics found at the site dates the site to the Mississippian period (A.D. 1100-1700). No associated funerary objects are present.

In 1974, human remains representing, at minimum, one individual were recovered from the Norflett Mound site (22Tu519) in Tunica County, MS. The human remains were recovered during a salvage excavation and curated at MDAH. The human remains were identified as an adult (30-35 years) of indeterminate sex. No known individual was identified. Ceramics found at the Norflett Mound site (22Tu519) date the burial to the early Middle Woodland period (200 B.C.-A.D. 100). No associated funerary objects are present.

Determinations Made by the Mississippi Department of Archives and History

Officials of the Mississippi Department of Archives and History have determined that:

• Pursuant to 25 U.S.C. 3001(9), the human remains described in this notice represent the physical remains of at least 207 individuals of Native American ancestry.

• Pursuant to 25 U.S.C. 3001(3)(A), the 50 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Alabama-Coushatta Tribe of Texas (previously listed as the Alabama-Coushatta Tribes of Texas), Jena Band of Choctaw Indians, Mississippi Band of Choctaw Indians, The Chickasaw Nation, The Choctaw Nation of Oklahoma, The Muscogee (Creek) Nation, The Quapaw Tribe of Indians, and the Tunica-Biloxi Indian Tribe.

• Treaties, Acts of Congress, or Executive Orders, indicate that the land from which the Native American human remains and associated funerary objects were removed is the aboriginal land of the Alabama-Coushatta Tribe of Texas (previously listed as the Alabama-Coushatta Tribes of Texas), Jena Band of Choctaw Indians, Mississippi Band of Choctaw Indians, The Chickasaw Nation, The Choctaw Nation of Oklahoma, The Muscogee (Creek) Nation, The Quapaw Tribe of Indians, and the Tunica-Biloxi Indian Tribe.

• Pursuant to 43 CFR 10.11(c)(1), the disposition of the human remains and associated funerary objects may be to the Alabama-Coushatta Tribe of Texas (previously listed as the Alabama-Coushatta Tribes of Texas), Jena Band of Choctaw Indians, Mississippi Band of Choctaw Indians, The Chickasaw Nation, The Choctaw Nation of Oklahoma, The Muscogee (Creek) Nation, The Quapaw Tribe of Indians, and the Tunica-Biloxi Indian Tribe.

Additional Requestors and Disposition

Representatives of any Indian Tribe or Native Hawaiian organization not identified in this notice that wish to request transfer of control of these human remains and associated funerary objects should submit a written request with information in support of the request to Patty Miller-Beech, Mississippi Department of Archives and History, P.O. Box 571, Jackson, MS 39205-0571, telephone (601) 576-6944, email pmbeech@mdah.ms.gov, by May 14, 2018. After that date, if no additional requestors have come forward, transfer of control of the human remains and associated funerary objects to the Alabama-Coushatta Tribe of Texas (previously listed as the Alabama-Coushatta Tribes of Texas), Jena Band of Choctaw Indians, Mississippi Band of Choctaw Indians, The Chickasaw Nation, The Choctaw Nation of Oklahoma, The Muscogee (Creek) Nation, The Quapaw Tribe of Indians, and the Tunica-Biloxi Indian Tribe may proceed.

The Mississippi Department of Archives and History is responsible for notifying the Alabama-Coushatta Tribe of Texas (previously listed as the Alabama-Coushatta Tribes of Texas), Jena Band of Choctaw Indians, Mississippi Band of Choctaw Indians, The Chickasaw Nation, The Choctaw Nation of Oklahoma, The Muscogee (Creek) Nation, The Quapaw Tribe of Indians, and the Tunica-Biloxi Indian Tribe that this notice has been published.

Dated: March 22, 2018.
Melanie O'Brien,
Manager, National NAGPRA Program.

[FR Doc. 2018-07699 Filed 4-12-18; 8:45 am]

BILLING CODE 4312-52-P